DEPARTMENT OF STATE

[Public Notice 5008]

Notice Convening an Accountability Review Board for the November 24, 2004 Murder of Mr. James C. Mollen, an Employee of the U.S. Embassy in Baghdad, Iraq

Pursuant to Section 301 of the Omnibus Diplomatic Security and Antiterrorism Act of 1986, as amended (22 U.S.C. 4831 et seq.), I have determined that the November 24, 2004 shooting death of Mr. James C. Mollen, an employee of the U.S. Embassy in Baghdad, Iraq, involved loss of life at or related to a U.S. mission abroad. Therefore, I am convening an Accountability Review Board, as required by that statute, to examine the facts and the circumstances of the attack and to report to me such findings and recommendations as it deems appropriate, in keeping with the attached mandate.

I have appointed Edward G. Lanpher, a retired U.S. ambassador, as Chair of the Board. He will be assisted by M. Bart Flaherty, Frederick Mecke, Mike Absher, Laurie Tracy and by Executive Secretary to the Board, Bruce Thomas. They bring to their deliberations distinguished backgrounds in government service and/or in the private sector.

The Board will submit its conclusions and recommendations to me within 60 days of its first meeting, unless the Chair determines a need for additional time. Appropriate action will be taken and reports submitted to Congress on any recommendations made by the Board.

Anyone with information relevant to the Board's examination of this incident should contact the Board promptly at (202) 203-7149 or send a fax to the Board at (202) 203-7143.

This notice shall be published in the Federal Register.

Dated: February 28, 2005.
Condoleezza Rice,
Secretary of State, Department of State.

[FR Doc. 05-4358 Filed 3-4-05; 8:45 am]

BILLING CODE 4710-35-P